DEPARTMENT OF DEFENSE

Department of the Army

[Docket ID: USA-2023-HQ-0004]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by July 13, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Program Executive Office Enterprise Information Systems (PEO EIS) Climate Survey; OMB Control Number 0702-0153.

Type of Request: Revision.

Number of Respondents: 1,618.

Responses per Respondent: 1.

Annual Responses: 1,618.

Average Burden per Response: 30 minutes.

Annual Burden Hours: 809.

Needs and Uses: The Program Executive Office Enterprise Information Systems Climate Survey (PEO EIS) Climate Survey is seeking feedback from its civilian, military, and contractor personnel to assess how they feel about the organization and their work environment. The responses will enable PEO EIS leadership to assess and determine where changes are required. PEO EIS will distribute this Climate Survey using the MilSuite survey feature, which enables PEO EIS to create a custom survey for distribution organization-wide with advanced survey statistics to capture, review, and share the responses. Respondents will access and provide their responses to the collection instrument online. They will receive a link via email that takes them directly to the PEO EIS Climate Survey in MilSuite. The PEO EIS Operations Team will review the survey responses and provide data and subsequent analysis to PEO EIS leadership. The results will enable leadership to communicate areas for improvement, actions they plan to take or have been taken, and if the changes address the area in need of improvement with its personnel. Additionally, since the survey is annual, PEO EIS will be able to review and analyze data year to year to identify trends. This climate survey was previously fielded to only one branch of PEO EIS, but will be expanded to include the entire organization.

Affected Public: Individuals or households.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: June 5, 2023.
Aaron T. Siegel,
Alternate OSD Federal Register Liaison Officer, Department of Defense.

[FR Doc. 2023-12643 Filed 6-12-23; 8:45 am]

BILLING CODE 5001-06-P